DEPARTMENT OF COMMERCE

International Trade Administration

[A-570-814]

Carbon Steel Butt-Weld Pipe Fittings From the People's Republic of China; Rescission of the Antidumping Duty Administrative Review, In Part; 2017-2018

AGENCY: Enforcement and Compliance, International Trade Administration, Department of Commerce.

SUMMARY: On September 10, 2018, the Department of Commerce (Commerce) published a notice of initiation of an administrative review of the antidumping duty order on carbon steel butt-weld pipe fittings from the People's Republic of China (China). Based on Jinan Mech Piping Technology Co., Ltd (Jinan Mech)'s timely withdrawal of its request for review, we are now rescinding this administrative review with respect to Jinan Mech.

DATES: Applicable December 28, 2018.

FOR FURTHER INFORMATION CONTACT: Hannah Falvey, AD/CVD Operations, Office V, Enforcement and Compliance, International Trade Administration, U.S. Department of Commerce, 1401 Constitution Avenue NW, Washington, DC 20230; telephone (202) 482-4889.

Background

On July 6, 1992, Commerce published in the Federal Register the antidumping duty order on carbon steel butt-weld pipe fittings from China.¹ In July 2018, Commerce received multiple timely requests to conduct an administrative review of the Order. Based upon these requests, on September 10, 2018, in accordance with section 751(a) of the Tariff Act of 1930, as amended (the Act), Commerce published in the Federal Register a notice of initiation of an administrative review covering the period July 1, 2017, through June 30, 2018, with respect to two companies: Jinan Mech Piping Technology Co., Ltd. and Pantech Steel Industries SDN BHD.² On October 11, 2018, Jinan Mech timely withdrew its request for an administrative review.³ No other party requested an administrative review of Jinan Mech.

¹ See Antidumping Duty Order and Amendment to the Final Determination of Sales at Less Than Fair Value; Certain Carbon Steel Butt-Weld Pipe Fittings from the People's Republic of China, 57 FR 29702 (July 6, 1992) (Order).

² See Initiation of Antidumping and Countervailing Duty Administrative Reviews, 83 FR 45596, 45601-02 (September 10, 2018).

³ See Jinan Mech's Letter, “Administrative Review of the Antidumping Duty Order on Carbon Steel Butt-Weld Pipe Fittings from the People's Republic of China: Withdrawal of Request for Review,” dated October 11, 2018.

Rescission

Pursuant to 19 CFR 351.213(d)(1), Commerce will rescind an administrative review, in whole or in part, if the party who requested the review withdraws the request within 90 days of the date of publication of notice of initiation of the requested review, and no other party requested a review of the company. Jinan Mech timely withdrew its request for an administrative review, and no other party requested a review of Jinan Mech. Accordingly, we are rescinding this review of the Order for the period July 1, 2017, through June 30, 2018, with respect to Jinan Mech, in accordance with 19 CFR 351.213(d)(1). This administrative review will continue with respect to Pantech Steel Industries SDN BHD.

Assessment

Commerce will instruct U.S. Customs and Border Protection (CBP) to assess antidumping duties on all appropriate entries. For the company for which this review is rescinded, antidumping duties shall be assessed on its entries of subject merchandise during the period of review at rates equal to the cash deposit of estimated antidumping duties required at the time of entry, or withdrawal from warehouse, for consumption, in accordance with 19 CFR 351.212(c)(1)(i). Commerce intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction. This notice is issued and published in accordance with sections 751(a) and 777(i)(l) of the Act and 19 CFR 351.213(d)(4).

Dated: December 20, 2018.
James Maeder,
Associate Deputy Assistant Secretary for Antidumping and Countervailing Duty Operations performing the duties of Deputy Assistant Secretary for Antidumping and Countervailing Duty Operations.

[FR Doc. 2018-28241 Filed 12-27-18; 8:45 am]

BILLING CODE 3510-DS-P